OFFICE OF THE UNITED STATES TRADE REPRESENTATIVE

Modification of the Tariff-Rate Import Quota for Certain Cheeses

AGENCY: Office of the United States Trade Representative.

ACTION: Modification of the Harmonized Tariff Schedule of the United States.

SUMMARY: This document modifies Additional U.S. Notes 2, 16, 17, 18, 19, 20, 21, 22, 23, and 25 to Chapter 4 of the Harmonized Tariff Schedule of the United States (HTS) to reflect the enlargement of the European Union (EU) to 25 countries on May 1, 2004.

EFFECTIVE DATE: This modification is effective on January 1, 2005.

FOR FURTHER INFORMATION CONTACT: Sharon Sydow, Director for Agricultural Trade Policy, Office of the United States Trade Representative, 600 17th Street NW., Washington, DC 20508; telephone (202) 395-6127.

SUPPLEMENTARY INFORMATION: On May 1, 2004, Cyprus, the Czech Republic, Estonia, Hungary, Latvia, Lithuania, Malta, Poland, the Slovak Republic, and Slovenia acceded to the European Community (EC), and the EC customs union of 15 member countries (“EC-15”) was enlarged to a customs union of 25 member countries (“EC-25”). At that time, Cyprus, the Czech Republic, Estonia, Hungary, Latvia, Lithuania, Malta, Poland, the Slovak Republic, and Slovenia withdrew their tariff schedules under the World Trade Organization (WTO) and applied the common external tariff of the EC-15 to imports into the EC-25. To recognize the membership of Cyprus, the Czech Republic, Estonia, Hungary, Latvia, Lithuania, Malta, Poland, the Slovak Republic, and Slovenia in the EC-25, the tariff-rate quota (TRQ) allocations for certain cheeses from the EC-15 will be available to the EC-25, and the TRQ allocation for certain cheeses from the Czech Republic, Hungary, Poland, and the Slovak Republic will become part of the total TRQ allocations for certain cheeses from the EC-25.

Section 404(d)(3) of the Uruguay Round Agreements Act (URAA) (19 U.S.C. 3601(d)(3)) authorizes the President to allocate in-quota quantities of a TRQ for any agricultural product among supplying countries or customs areas and to modify any allocation as the President determines appropriate. Section 604 of the Trade Act of 1974, as amended (“Trade Act”) (19 U.S.C. 2483) authorizes the President to embody in the HTS the substance of the relevant provisions of that Act, and of other Acts affecting import treatment, and actions thereunder, including the removal, modification, continuance, or imposition of any rate of duty or other import restriction.

In paragraph (3) of Proclamation 6763 of December 23, 1994, the President delegated his authority under section 404(d)(3) of the URAA to the United States Trade Representative (USTR). In paragraph 5 of Proclamation 6914 of August 26, 1996, the President determined that it is appropriate to authorize the USTR to exercise his authority under section 604 of the Trade Act to embody in the HTS the substance of any action taken by USTR under section 404(d)(3) of the URAA.

Modification of the HTS

Pursuant to the authority delegated to the USTR in Proclamations 6763 and 6914, the USTR has determined that it is appropriate to modify the TRQ allocations of Cyprus, the Czech Republic, Estonia, Hungary, Latvia, Lithuania, Malta, Poland, the Slovak Republic, and Slovenia and to embody such modifications in the HTS. Effective with respect to articles entered, or withdrawn from warehouse for consumption, on or after January 1, 2005:

1. The additional U.S. notes to chapter 4 are modified by deleting additional U.S. note 2 and inserting the following new additional U.S. note 2 in lieu thereof:

“2. For the purposes of this schedule, the expression “EC 25” refers to articles which are the product of one of the following: Austria, Belgium, Cyprus, the Czech Republic, Denmark, Estonia, Finland, France, the Federal Republic of Germany, Greece, Hungary, Ireland, Italy, Latvia, Lithuania, Luxembourg, Malta, the Netherlands, Poland, Portugal, the Slovak Republic, Slovenia, Spain, Sweden or the United Kingdom.”

2. Additional U.S. note 16 to chapter 4 is modified by:

(a) Deleting from the list in such note the following countries and quantities:

“Czech Republic 200,000

Poland 1,236,224

Slovak Republic 600,000”; and

(b) Deleting from the list in such note the expression “EC 15” and the quantity “25,810,000” set out opposite such expression and inserting in lieu thereof the expression “EC 25” and the quantity “27,846,224”.

3. Additional U.S. note 17 to chapter 4 is modified by:

(a) Deleting from the list in such note the following country and quantity:

“Czech Republic 50,000”; and

(b) Deleting from the list in such note the expression “EC 15” and the quantity “2,779,000” set out opposite such expression and inserting in lieu thereof the expression “EC 25” and the quantity “2,829,000”.

4. Additional U.S. Note 18 to chapter 4 is modified by:

(a) Deleting from the list in such note the following country and quantity:

“Czech Republic 50,000”; and

(b) Deleting from the list in such note the expression “EC 15” and the quantity “1,263,000” set out opposite such expression and inserting in lieu thereof the expression “EC 25” and the quantity “1,313,000”.

5. Additional U.S. Note 19 to chapter 4 is modified by:

(a) Deleting from the list in such note the expression “EC 15” and inserting in lieu thereof the expression “EC 25”.

6. Additional U.S. Note 20 to chapter 4 is modified by:

(a) Deleting from the list in such note the following country and quantity:

“Czech Republic 100,000”; and

(b) Deleting from the list in such note the expression “EC 15” and the quantity “6,289,000” set out opposite such expression and inserting in lieu thereof the expression “EC 25” and the quantity “6,389,000”.

7. Additional U.S. Note 21 to chapter 4 is modified by:

(a) Deleting from the list in such note the following country and quantity:

“Poland 1,325,000”; and

(b) Deleting from the list in such note the expression “EC 15” and the quantity “4,082,000” set out opposite such expression and inserting in lieu thereof the expression “EC 25” and the quantity “5,407,000”.

8. Additional U.S. Note 22 to chapter 4 is modified by:

(a) Deleting from the list in such note the expression “EC 15” and inserting in lieu thereof the expression “EC 25”.

9. Additional U.S. Note 23 to chapter 4 is modified by:

(a) Deleting from the list in such note the following country and quantity:

“Poland 174,907”; and

(b) Deleting from the list in such note the expression “EC 15” and the quantity “4,250,000” set out opposite such expression and inserting in lieu thereof the expression “EC 25” and the quantity “4,424,907”.

10. Additional U.S. Note 25 to chapter 4 is modified by:

(a) Deleting from the list in such note the following countries and quantities:

“Czech Republic 400,000

Hungary 800,000”; and

(b) Deleting from the list in such note the expression “EC 15” and the quantity “21,700,000” set out opposite such expression and inserting in lieu thereof the expression “EC 25” and the quantity “22,900,000”.

Robert B. Zoellick,
United States Trade Representative.

[FR Doc. 04-28123 Filed 12-23-04; 8:45 am]

BILLING CODE 3190-W5-P